DEPARTMENT OF THE INTERIOR

National Park Service

[NPS-NER-BOHA-16258; PPMPSPD1Z.YM0000] [PPNEBOHAS1]

Boston Harbor Islands National Recreation Area Advisory Council

AGENCY: National Park Service, Interior.

ACTION: Notice of meeting.

SUMMARY: This notice announces a meeting of the Boston Harbor Islands National Recreation Area Advisory Council. The agenda includes a discussion and vote on changes to the Committee bylaws, and the Council's mission, goals, and community outreach initiative. Superintendent Parker will also give updates about park summer operations, topics will include: Visitation, staffing, private boater use of the park, ferry service/schedule/ridership, vendor operations (marina/moorings/food service/park store), volunteering, planning for the 2016 anniversaries of the park (20 years), the National Park Service (100 years), and the Boston Light Tricentennial (300 years).

DATES: September 29, 2014, 6:00 p.m. to 8:00 p.m. (Eastern).

ADDRESSES: WilmerHale, 60 State Street, 26th Floor Conference Room, Boston, MA 02109.

FOR FURTHER INFORMATION CONTACT: Giles Parker, Superintendent and Designated Federal Official (DFO), Boston Harbor Islands National Recreation Area, 15 State Street, Suite 1100, Boston, MA 02109, telephone (617) 223-8669, or email giles_parker@nps.gov.

SUPPLEMENTARY INFORMATION: This meeting is open to the public. Those wishing to submit written comments may contact the DFO for the Boston Harbor Islands National Recreation Area Advisory Council, Giles Parker, by mail at National Park Service, Boston Harbor Islands, 15 State Street, Suite 1100, Boston, MA 02109, or via email giles_parker@nps.gov. Before including your address, telephone number, email address, or other personal identifying information in your comment, you should be aware that your entire comment—including your personal identifying information—may be made publicly available at any time. While you may ask us in your comment to withhold your personal identifying information from public review, we cannot guarantee that we will be able to do so.

The Council was appointed by the Director of the National Park Service pursuant to Public Law 104-333. The purpose of the Council is to advise and make recommendations to the Boston Harbor Islands Partnership with respect to the implementation of a management plan and park operations. Efforts have been made locally to ensure that the interested public is aware of the meeting dates.

Dated: August 27, 2014.
Alma Ripps,
Chief, Office of Policy.

[FR Doc. 2014-21103 Filed 9-3-14; 8:45 am]

BILLING CODE 4310-EE-P